DEPARTMENT OF HEALTH AND HUMAN SERVICES

Centers for Disease Control and Prevention

Informational Meeting: The Importation of Infectious Biological Agents, Infectious Substances and Vectors; Public Webcast

AGENCY: Centers for Disease Control and Prevention (CDC), Department of Health and Human Services (HHS).

ACTION: Notice of public webcast.

SUMMARY: The Centers for Disease Control and Prevention (CDC), Department of Health and Human Services (HHS), is hosting a public webcast to address import permit regulations for infectious biological agents, infectious substances, and vectors. Besides CDC, presenters for this webcast may include representatives from the U.S. Department of Transportation, U.S. Department of Agriculture, Department of Homeland Security, and U.S. National Authority for Containment (NAC) of Polioviruses.

DATES: The webcast will be held on December 4, 2019, from 11 a.m. to 4 p.m. (EST). Registration instructions are found on the HHS/CDC Import Permit Program website, https://www.cdc.gov/cpr/ipp/index.htm.

ADDRESSES: The webcast will be broadcast from the Centers for Disease Control and Prevention, 1600 Clifton Road NE, Atlanta, Georgia 30329.

FOR FURTHER INFORMATION CONTACT: Samuel S. Edwin, Director, Division of Select Agents and Toxins, Centers for Disease Control and Prevention, 1600 Clifton Road NE, Mailstop H-21-7, Atlanta, Georgia 30329. Telephone: (404) 718-2000.

SUPPLEMENTARY INFORMATION: This webcast is an opportunity for all interested parties (e.g., academic institutions; biomedical centers; commercial manufacturing facilities; federal, state, and local laboratories, including clinical and diagnostic laboratories; research facilities; exhibition facilities; and educational facilities) to obtain specific guidance and information regarding import permit regulations for the importation of infectious biological agents, infectious substances and vectors. The webcast will also provide assistance to those interested in applying for an import permit from federal agencies within the United States. Instructions for registration are found on the HHS/CDC Import Permit Program website, https://www.cdc.gov/cpr/ipp/index.htm.

Participants must register by November 22, 2019. This is a webcast-only event and there will be no on-site participation at the HHS/CDC broadcast facility.

Dated: August 19, 2019.
Sandra Cashman,
Executive Secretary, Centers for Disease Control and Prevention.

[FR Doc. 2019-18100 Filed 8-21-19; 8:45 am]

BILLING CODE 4163-18-P